NUCLEAR REGULATORY COMMISSION

[Docket Nos. 72-0028, 50-387, and 50-388; NRC-2024-0068]

Susquehanna Nuclear, LLC; Susquehanna Steam Electric Station, Units 1 and 2; Independent Spent Fuel Storage Installation; Environmental Assessment and Finding of No Significant Impact

AGENCY: Nuclear Regulatory Commission.

ACTION: Notice; issuance.

SUMMARY: The U.S. Nuclear Regulatory Commission (NRC) is issuing an environmental assessment (EA) and a finding of no significant impact (FONSI) for an exemption request submitted by Susquehanna Nuclear, LLC (Susquehanna) that would permit Susquehanna Steam Electric Station (SSES) to load six new 89 multi-purpose canisters (MPC) with continuous basket shims (CBS) in the HI-STORM Flood/Wind (FW) MPC Storage System at its SSES Units 1 and 2 independent spent fuel storage installation (ISFSI) in a storage condition where the terms, conditions, and specifications in the Certificate of Compliance (CoC) No. 1032, Amendment No. 5, are not met.

DATES: The EA and FONSI referenced in this document are available on April 22, 2024.

ADDRESSES: Please refer to Docket ID NRC-2024-0068 when contacting the NRC about the availability of information regarding this document. You may obtain publicly available information related to this document using any of the following methods:

• Federal Rulemaking Website: Go to https://www.regulations.gov and search for Docket ID NRC-2024-0068. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Christian Jacobs, Office of Nuclear Material Safety and Safeguards, U.S. Nuclear Regulatory Commission, Washington, DC 20555; telephone: 301-415-6825; email: Christian.Jacobs@nrc.gov.

SUPPLEMENTARY INFORMATION:

I. Introduction

The NRC is reviewing an exemption request from Susquehanna, dated March 19, 2024, and supplemented on March 21, 2024. Susquehanna is requesting an exemption, pursuant to section 72.7 of title 10 of the Code of Federal Regulations (10 CFR), in paragraphs 72.212(a)(2), 72.212(b)(3), 72.212(b)(5)(i), 72.212(b)(11), and 72.214 that require Susquehanna to comply with the terms, conditions, and specifications of the CoC No. 1032, Amendment No. 5. If approved, the exemption would allow Susquehanna to load six new MPC-89-CBS in the HI-STORM FW MPC Storage System at the SSES ISFSI in a storage condition where the terms, conditions, and specifications in the CoC No. 1032, Amendment No. 5, are not met.

II. Environmental Assessment

Background

SSES is located in Salem Township, Luzerne County, Pennsylvania, just west of the Susquehanna River. The largest community within 10 miles (16 km) of the site is the borough of Berwick, which is approximately 5 miles (8 km) southwest of SSES, in Luzerne County, Pennsylvania. The nearest major metropolitan areas are Wilkes-Barre, Pennsylvania, approximately 20 mi (32 km) to the northeast, and Allentown, Pennsylvania, approximately 50 mi (80 km) to the southeast. Unit 1 began operating in 1981 and Unit 2 began operating in 1982. Susquehanna has been storing spent fuel in an ISFSI at SSES under a general license as authorized by 10 CFR part 72, subpart K, “General License for Storage of Spent Fuel at Power Reactor Sites.” Susquehanna currently uses the HI-STORM FW MPC Storage System under CoC No. 1032, Amendment No. 5, for dry storage of spent nuclear fuel at the SSES ISFSI.

Description of the Proposed Action

The CoC is the NRC approved design for each dry cask storage system. The proposed action would exempt the applicant from the requirements of 10 CFR 72.212(a)(2), 72.212(b)(3), 72.212(b)(5)(i), 72.212(b)(11), and 72.214 only as these requirements pertain to the use of the MPC-89-CBS in the HI-STORM FW MPC Storage System for the near-term planned loading of the canisters. The exemption would allow SSES to load six new MPC-89-CBS in the HI-STORM FW MPC Storage System at the SSES ISFSI, despite the MPC-89-CBS in the HI-STORM FW MPC Storage System not being in compliance with the terms, conditions, and specifications in CoC No. 1032, Amendment No. 5.

The HI-STORM FW MPC Storage System CoC provides the requirements, conditions, and operating limits necessary for use of the system to store spent fuel. Holtec International (Holtec), the designer and manufacturer of the HI-STORM FW MPC Storage System, developed a variant of the design with CBS for the MPC-89, known as MPC-89-CBS. Holtec originally implemented the CBS variant design under the provisions of 10 CFR 72.48, which allows licensees to make changes to cask designs without a CoC amendment under certain conditions (listed in 10 CFR 72.48(c)). After evaluating the specific changes to the cask designs, the NRC determined that Holtec erred when it implemented the CBS variant design under 10 CFR 72.48, as this was not the type of change allowed without a CoC amendment. For this reason, the NRC issued three Severity Level IV violations to Holtec. Susquehanna plans to load six new MPC-89-CBS in the HI-STORM FW MPC Storage System beginning in August 2024. This exemption considers the near-term planned loading of the six canisters with the CBS variant basket design.

Need for the Proposed Action

Susquehanna requested this exemption to allow SSES to load six new MPC-89-CBS in the HI-STORM FW MPC Storage System at the SSES ISFSI for the future loading campaign scheduled to begin in August 2024.

Approval of the exemption request would allow Susquehanna to effectively manage the margin for full core reserve in the SSES spent fuel pool to enable refueling and offloading fuel from the reactor. It would also allow Susquehanna to manage logistical considerations, such as personnel and specific equipment resources, needed to support refueling outages at SSES and across the industry.

Environmental Impacts of the Proposed Action

This EA evaluates the potential environmental impacts of granting an exemption from the terms, conditions, and specifications in CoC No. 1032, Amendment No. 5. The exemption would allow six new MPC-89-CBS to be loaded in the HI-STORM FW MPC Storage System in a near-term loading campaign beginning in August 2024 and maintained in storage at the SSES ISFSI.

The potential environmental impacts of storing spent nuclear fuel in NRC-approved storage systems have been documented in previous assessments. On July 18, 1990 (55 FR 29181), the NRC amended 10 CFR part 72 to provide for the storage of spent fuel under a general license in cask designs approved by the NRC. The EA for the 1990 final rule analyzed the potential environmental impacts of using NRC-approved storage casks. The EA for the HI-STORM FW MPC Storage System, CoC No. 1032, Amendment No. 5, (85 FR 28479), published in 2015, tiers off of the EA issued for the July 18, 1990, final rule. “Tiering” off earlier EAs is a standard process encouraged by the regulations implementing the National Environmental Policy Act of 1969 (NEPA) that entails the use of impact analyses of previous EAs to bound the impacts of a proposed action where appropriate. The Holtec HI-STORM FW MPC Storage System is designed to mitigate the effects of design basis accidents that could occur during storage. Considering the specific design requirements for the accident conditions, the design of the cask would prevent loss of containment, shielding, and criticality control. If there is no loss of containment, shielding, or criticality control, the environmental impacts would not be significant.

The exemptions requested by Susquehanna at the SSES site as they relate to CoC No. 1032, Amendment No. 5, for the HI-STORM FW MPC Storage System are limited to the use of the CBS variant basket design only for the near-term planned loading of six new canisters utilizing the CBS variant basket design. The staff has determined that this change in the basket would not result in either radiological or non-radiological environmental impacts that significantly differ from the environmental impacts evaluated in the environmental assessment supporting the issuance of CoC No. 1032, Amendment No. 5. If the exemption is granted, there would be no significant change in the types or amounts of any effluents released, no significant increase in individual or cumulative public or occupational radiation exposure, and no significant increase in the potential for or consequences from radiological accidents. Accordingly, the Commission concludes that there would be no significant environmental impacts associated with the proposed action.

Alternative to the Proposed Action

The staff considered the no-action alternative. The no-action alternative (denial of the exemption request) would require Susquehanna to keep the spent fuel in the spent fuel pool until older design canisters can be fabricated and delivered to site. Not allowing the planned future loading campaign could affect Susquehanna's ability to manage pool capacity, reactor fuel offloading, and refueling. It could also impact Susquehanna's availability to manage personnel resources and coordinate refueling outages at SSES and across the industry. The NRC has determined that these potential impacts of the no-action alternative could be avoided by proceeding with the proposed exemption, especially given that the staff has concluded in NRC's Safety Determination Memorandum, issued with respect to the enforcement action against Holtec regarding these violations, that fuel can be stored safety in the MPC-89-CBS.

Agencies Consulted

The NRC provided the Pennsylvania Department of Environmental Protection (PDEP) a copy of this draft EA for review by an email dated April 10, 2024. On April 12, 2024, the PDEP provided its concurrence by email.

III. Finding of No Significant Impact

The environmental impacts of the proposed action have been reviewed in accordance with the requirements in 10 CFR part 51, which implement NEPA. Based upon the foregoing environmental assessment, the NRC finds that the proposed action of granting the exemption from the regulations in 10 CFR 72.212(a)(2), 72.212(b)(3), 72.212(b)(5)(i), 72.212(b)(11) and 72.214, which require the licensee to comply with the terms, conditions, and specifications of the CoC, would not significantly impact the quality of the human environment. The exemption in this case would be limited to specific future loading of six canisters with the CBS variant design beginning in August 2024. Accordingly, the NRC has determined that a FONSI is appropriate, and an environmental impact statement is not warranted.

IV. Availability of Documents

The documents identified in the following table are available to interested persons through ADAMS, as indicated.

Document description | ADAMS accession No. or Federal Register notice
Susquehanna's request for exemption, dated March 19, 2024 | ML24079A070
Supplement to request for exemption, dated March 21, 2024 | ML24081A335
Certificate of Compliance No. 1032, Amendment 5, dated June 25, 2020 | ML20163A701 (Package).
Holtec International, Inc.—Notice of Violation; The U.S. Nuclear Regulatory Commission Inspection Report No. 07201014/2022-201, EA-23-044, dated January 30, 2024 | ML24016A190
10 CFR part 72 amendment to allow spent fuel storage in NRC-approved casks, dated July 18, 1990 | 55 FR 29181
EA for part 72 amendment to allow spent fuel storage in NRC-approved casks, dated March 8, 1989 | ML051230231
Final rule for List of Approved Spent Fuel Storage Casks: Holtec International HI-STORM Flood/Wind Multipurpose Canister Storage System CoC No. 1032, Amendment 5, dated May 13, 2020 | 85 FR 28479
Safety Determination of a Potential Structural Failure of the Fuel Basket During Accident Conditions for the HI-STORM 100 and HI-STORM Flood/Wind Dry Cask Storage Systems, dated January 31, 2024 | ML24018A085
NRC email to PDEP requesting review of EA/FONSI for SSES Exemption, dated April 10, 2024 | ML24106A066
Email from PDEP regarding review of EA/FONSI for SSES Exemption, dated April 12, 2024 | ML24106A067

Dated: April 16, 2024.
For the Nuclear Regulatory Commission.
Bernard H. White,
Acting Chief, Storage and Transportation Licensing Branch, Division of Fuel Management, Office of Nuclear Material Safety and Safeguards.

[FR Doc. 2024-08468 Filed 4-19-24; 8:45 am]

BILLING CODE 7590-01-P